DEPARTMENT OF THE INTERIOR

Fish and Wildlife Service

[FWS-HQ-R-2014-N231; FXRS12650900000-145-FF09R20000]

RIN 1018-AZ89

Final Strategic Growth Policy for the National Wildlife Refuge System

AGENCY: Fish and Wildlife Service, Interior.

ACTION: Notice of availability.

SUMMARY: The U.S. Fish and Wildlife Service (Service) has finalized a policy to implement a strategic approach to the growth of the National Wildlife Refuge System (Refuge System, System). The National Wildlife Refuge System Administration Act (Administration Act), as amended by the National Wildlife Refuge System Improvement Act, requires that we “plan and direct the continued growth of the System in a manner that is best designed to accomplish the mission of the System.” This policy directs Refuge System employees to focus their protection measures on priority conservation features to ensure that our limited resources are used to make the greatest contribution to the conservation of species in a cost-effective and transparent manner. It ensures that the growth of the System reflects our vision toward managing functional landscapes, enhancing our scientific rigor, improving our effectiveness, and involving our partners and the American people. The Strategic Growth policy is found in “Refuge Planning,” chapter 5, part 602 in the Fish and Wildlife Service Manual.

DATES: The policy was effective September 4, 2014.

ADDRESSES: You may read the final policy online at http://www.fws.gov/policy/602fw5.html. You may obtain a summary of how we addressed comments we received on the draft policy at http://www.fws.gov/refuges/planning/StrategicGrowth.html. You may also request a copy of the policy by U.S. mail from USFWS, Division of Natural Resources and Conservation Planning, 5275 Leesburg Pike, Falls Church, VA 22041-3803 (see FOR FURTHER INFORMATION CONTACT). The policy is also available for public inspection, by appointment, during normal business hours at the above address.

FOR FURTHER INFORMATION CONTACT: Brian Salem, at the address above, or by telephone: (703) 358-2397.

SUPPLEMENTARY INFORMATION:

Introduction

The Service has established a final Strategic Growth policy, which is available at http://www.fws.gov/policy/602fw5.html. The policy is chapter 5, part 602, “Refuge Planning,” in the Fish and Wildlife Service Manual. The purpose of the policy is to implement a strategic approach to the growth of the National Wildlife Refuge System.

Background

The National Wildlife Refuge System Improvement Act of 1997 (Improvement Act), which amended the Administration Act (16 U.S.C. 668dd-ee), states that the Refuge System mission is to “administer a national network of lands and waters for the conservation, management, and where appropriate, restoration of the fish, wildlife, and plant resources and their habitats for the benefit of present and future generations of Americans.” The Improvement Act requires us to “plan and direct the continued growth of the System in a manner that is best designed to accomplish the mission of the System,” “to fulfill the mission of the System, as well as the specific purposes for which [the] refuge was established,” and to “ensure timely and effective cooperation and collaboration with Federal agencies and State fish and wildlife agencies during the course of acquiring and managing refuges.” Because we are facing unparalleled challenges related to climate and non-climate stressors, we must provide consistent direction for adding lands and waters to the System in a science-based, cost-effective, and transparent manner. The Strategic Growth policy is a result of this need for strategic and consistent planning.

Final Policy

The policy prioritizes acquisitions within existing refuge boundaries, expansion of existing refuges, and establishment of new refuges. It focuses protection measures on priority conservation features so that we can make the most of our limited resources.

The policy is consistent with the biological planning and conservation design components of Strategic Habitat Conservation, the Service's science-based adaptive management framework for determining where and how to deliver conservation efficiently to achieve specific biological outcomes. The policy identifies threatened and endangered species, migratory birds of conservation concern, and waterfowl, or the surrogate species that represent them, as priority conservation features.

The policy requires application of the best available science to incorporate elements of conservation design to help us identify priority conservation areas that will contribute to achieving measurable conservation targets such as population objectives. The policy ensures that when employees propose new refuges or expansions to existing refuges, they analyze and describe: (1) The project's vulnerability to climate change and other non-climate stressors (e.g., habitat fragmentation, invasive species), (2) how we will mitigate stressors to ensure the project's resiliency, (3) how the project is arranged in a geographically efficient manner to safeguard ecological processes across the landscape, and (4) how the project complements the resilience of other conservation areas.

The policy establishes the process for sending project proposals to the Service Director and the potential outcomes of the Director's review. It also describes how designated representatives at the local level—Refuge Managers—must interact, coordinate, cooperate, and collaborate with State fish and wildlife agencies in the acquisition and management of refuges.

Summary of Comments and Changes to the Final Policy

On January 30, 2014, we announced the draft policy and requested public comment via a Federal Register notice (79 FR 4952). The comment period was open from January 30, 2014, through March 3, 2014. We received 35 detailed comment letters and many individual comments on the draft policy. In total, we received 236 individual comments, which were grouped into 71 comment categories. The comments were from nongovernmental organizations, individuals, States, and industry. Most of the comments expressed general support, and many addressed specific elements in the draft policy.

We considered all of the recommendations for improvement and clarification included in the comments and made appropriate changes to the draft policy. Many of the comments we received were outside the scope of this policy. We drafted this policy in a way that gives us flexibility as funding levels and resources change. The policy does not supersede any piece of legislation, regulation, or other policy.

Dated: December 11, 2014.
Dan Ashe,
Director, Fish and Wildlife Service.

[FR Doc. 2015-00381 Filed 1-14-15; 8:45 am]

BILLING CODE 4310-55-P